DEPARTMENT OF ENERGY

Federal Energy Regulatory Commission

[Project No. 2503-167]

Notice of Application Accepted for Filing, Soliciting Comments, Motions To Intervene, and Protests: Duke Energy Carolinas, LLC

Take notice that the following hydroelectric application has been filed with the Federal Energy Regulatory Commission and is available for public inspection:

a. Type of Application: Non-project use of project lands and water.

b. Project No.: 2503-167.

c. Date Filed: February 1, 2018 and supplemented June 4, 2018.

d. Applicant: Duke Energy Carolinas, LLC (licensee).

e. Name of Project: Keowee-Toxaway Hydroelectric Project.

f. Location: Lake Keowee in Oconee County, South Carolina.

g. Filed Pursuant to: Federal Power Act, 16 U.S.C. 791a-825r.

h. Applicant Contact: Kelvin Reagan, Manager, Lake Services South, Duke Energy Carolinas, LLC, 526 South Church Street, ECQ12, Charlotte, North Carolina 28202; phone (704) 382-9386.

i. FERC Contact: Ms. Joy Kurtz at 202-502-6760, or joy.kurtz@ferc.gov.

j. Deadline for filing comments, motions to intervene, and protests is 30 days from the issuance of this notice by the Commission. The Commission strongly encourages electronic filing. Please file motions to intervene, protests, and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2503-167.

k. Description of Request: The licensee requests Commission approval to grant the City of Walhalla permission to use project lands and water within the project boundary to construct and operate a raw water intake on Lake Keowee in order to meet demands for public drinking water. Construction activities within the project boundary would include installation of an intake line outfitted with a dual tee screen system and air burst line, installation of a floating dock extending over the intake line, placement of rip rap along the stream bank and intake line, and installation of a stormwater outfall. The through-slot velocity at the intake screen will not exceed 0.5 feet per second. The raw water line would leave the project boundary and lead to a water treatment plant, which is not yet constructed. Once constructed, the facility would withdrawal up to 6.75 million gallons per day (mgd) from Lake Keowee.

l. Locations of the Application: A copy of the application is available for inspection and reproduction at the Commission's Public Reference Room, located at 888 First Street NE, Room 2A, Washington, DC 20426, or by calling 202-502-8371. This filing may also be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the non-project use application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 8, 2018.
Kimberly D. Bose,
Secretary.

[FR Doc. 2018-12878 Filed 6-14-18; 8:45 am]

BILLING CODE 6717-01-P